DEPARTMENT OF TRANSPORTATION

Federal Aviation Administration

14 CFR Part 39

[Docket No. 2002-NM-135-AD; Amendment 39-12841; AD 2002-16-02]

RIN 2120-AA64

Airworthiness Directives; Bombardier Model CL-600-2B19 Series Airplanes

AGENCY: Federal Aviation Administration, DOT.

ACTION: Final rule; request for comments.

SUMMARY: This amendment adopts a new airworthiness directive (AD) that is applicable to all Bombardier Model CL-600-2B19 series airplanes. This action requires revising the Airworthiness Limitations section of the maintenance requirements manual to incorporate life limits for certain horizontal stabilizer trim actuators (HSTAs), and replacing the HSTAs with new or serviceable HSTAs. This action is necessary to prevent failure of key components of the HSTAs, which could result in loss of horizontal trim control and consequent reduced controllability of the airplane. This action is intended to address the identified unsafe condition.

DATES: Effective August 27, 2002.

The incorporation by reference of certain publications listed in the regulations is approved by the Director of the Federal Register as of August 27, 2002.

Comments for inclusion in the Rules Docket must be received on or before September 11, 2002.

ADDRESSES: Submit comments in triplicate to the Federal Aviation Administration (FAA), Transport Airplane Directorate, ANM-114, Attention: Rules Docket No. 2002-NM-135-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via the Internet must contain “Docket No. 2002-NM-135-AD” in the subject line and need not be submitted in triplicate. Comments sent via fax or the Internet as attached electronic files must be formatted in Microsoft Word 97 for Windows or ASCII text.

The service information referenced in this AD may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: Dan Parrillo, Aerospace Engineer, Systems and Flight Test Branch, ANE-172, FAA, New York Aircraft Certification Office, 10 Fifth Street, Third Floor, Valley Stream, New York 11581; telephone (516) 256-7505; fax (516) 568-2716.

SUPPLEMENTARY INFORMATION: Transport Canada Civil Aviation (TCCA), which is the airworthiness authority for Canada, recently notified the FAA that an unsafe condition may exist on all Bombardier Model CL-600-2B19 series airplanes. TCCA advises that endurance test results indicate that Appendix B—Airworthiness Limitations, Part 2, of the Canadair Regional Jet Maintenance Requirements Manual must be revised to incorporate life limits for certain horizontal stabilizer trim actuators (HSTAs), and replacement of those HSTAs to prevent failure of key components. Such failure, if not corrected, could result in loss of horizontal trim control and consequent reduced controllability of the airplane.

Explanation of Relevant Service Information

Bombardier has issued Canadair Regional Jet Temporary Revision (TR) 2B-816, dated November 28, 2001, which describes procedures for incorporating life limits for the HSTAs, Canadair part number (P/N) 601R92305-1 (vendor P/N 8396-2), and Canadair P/N 601R92305-3 (vendor P/N 8396-3), into Appendix B—Airworthiness Limitations, Part 2, of the Canadair Regional Jet Maintenance Requirements Manual. Accomplishment of the action specified in the TR is intended to adequately address the identified unsafe condition. TCCA classified this service information as mandatory and issued Canadian airworthiness directive CF-2002-20, dated March 20, 2002, in order to assure the continued airworthiness of these airplanes in Canada.

FAA's Conclusions

This airplane model is manufactured in Canada and is type certificated for operation in the United States under the provisions of § 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of Requirements of Rule

Since an unsafe condition has been identified that is likely to exist or develop on other airplanes of the same type design registered in the United States, this AD is being issued to prevent failure of key components of the HSTAs, which could result in loss of horizontal trim control and consequent reduced controllability of the airplane. This AD requires revising Appendix B—Airworthiness Limitations, Part 2, of the Canadair Regional Jet Maintenance Requirements Manual to incorporate life limits for certain HSTAs, and replacing the HSTAs with new or serviceable HSTAs. The actions are required to be accomplished per the service information described previously, except as discussed below.

Difference Between This AD and Service Information

Operators should note that the previously referenced Canadair airworthiness directive and TR do not include specific procedures for the replacement action. However, this AD requires replacement of the HSTAs with new or serviceable HSTAs per a method approved by the FAA.

Explanation of Action Taken by the FAA

In accordance with airworthiness standards requiring “damage tolerance assessments” for transport category airplanes [§ 25.571 of the Federal Aviation Regulations (14 CFR 25.571), and the Appendices referenced in that section], all products certificated to comply with that section must have Instructions for Continued Airworthiness (or, for some products, maintenance manuals) that include an Airworthiness Limitations Section (ALS). That section must set forth:

• Mandatory replacement times for structural components,

• Structural inspection intervals, and

• Related approved structural inspection procedures necessary to show compliance with the damage-tolerance requirements.

Compliance with the terms specified in the ALS is required by §§ 43.16 (for persons maintaining products) and 91.403 (for operators) of the Federal Aviation Regulations (14 CFR 43.16 and 91.403).

In order to require compliance with these inspection intervals and life limits, the FAA must engage in rulemaking, namely the issuance of an AD. For products certificated to comply with the referenced part 25 requirements, it is within the authority of the FAA to issue an AD requiring a revision to the ALS that includes reduced life limits, or new or different structural inspection requirements. These revisions then are mandatory for operators under § 91.403(c) of the Federal Aviation Regulations (14 CFR 91.403), which prohibits operation of an airplane for which airworthiness limitations have been issued unless the inspection intervals specified in those limitations have been complied with.

After that document is revised, as required, and the AD has been fully complied with, the life limit or structural inspection change remains enforceable as a part of the airworthiness limitations. (This is analogous to ADs that require changes to the Limitations Section of the Airplane Flight Manual.)

Requiring a revision of the airworthiness limitations, rather than requiring individual inspections, is advantageous for operators because it allows them to record AD compliance status only once—at the time they make the revision—rather than after every inspection. It also has the advantage of keeping all airworthiness limitations, whether imposed by original certification or by AD, in one place within the operator's maintenance program, thereby reducing the risk of non-compliance because of oversight or confusion.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-135-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-16-02 Bombardier, Inc. (Formerly Canadair): Amendment 39-12841. Docket 2002-NM-135-AD.

Applicability: All Model CL-600-2B19 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent failure of key components of the horizontal stabilizer trim actuators (HSTAs), which could result in loss of horizontal trim control and consequent reduced controllability of the airplane, accomplish the following:

Airworthiness Limitations Revision

(a) Within 14 days after the effective date of this AD, revise Appendix B—Airworthiness Limitations, Part 2, of the Canadair Regional Jet Maintenance Requirements Manual to include life limits for the HSTAs, Canadair part number (P/N) 601R92305-1 (vendor P/N 8396-2), and Canadair P/N 601R92305-3 (vendor P/N 8396-3), as specified in Canadair Regional Jet Temporary Revision (TR) 2B-816, dated November 28, 2001. This may be accomplished by inserting the TR into the specified section of the maintenance requirements manual.

Replacement

(b) Prior to the accumulation of 19,200 flight hours or within 500 flight hours on the HSTAs, Canadair part number (P/N) 601R92305-1 (vendor P/N 8396-2) and Canadair P/N 601R92305-3 (vendor P/N 8396-3), after the effective date of this AD, whichever occurs later: Replace the HSTAs with new or serviceable HSTAs, per a method approved by the Manager, FAA, New York Aircraft Certification Office (ACO).

(c) Except as provided by paragraph (d) of this AD: After the replacement specified in paragraph (b) of this AD has been accomplished, no alternative replacement times may be approved for the life limits for the HSTAs, Canadair part number (P/N) 601R92305-1 (vendor P/N 8396-2) and Canadair P/N 601R92305-3 (vendor P/N 8396-3), as specified in Canadair Regional Jet TR 2B-816, dated November 28, 2001.

Alternative Methods of Compliance

(d) An alternative method of compliance or adjustment of the compliance time that provides an acceptable level of safety may be used if approved by the Manager, New York ACO. Operators shall submit their requests through an appropriate FAA Principal Maintenance Inspector, who may add comments and then send it to the Manager, New York ACO.

Note 2: Information concerning the existence of approved alternative methods of compliance with this AD, if any, may be obtained from the New York ACO.

Special Flight Permits

(e) Special flight permits may be issued in accordance with § 21.197 and 21.199 of the Federal Aviation Regulations (14 CFR 21.197 and 21.199) to operate the airplane to a location where the requirements of this AD can be accomplished.

Incorporation by Reference

(f) The Airworthiness Limitations revision to the maintenance requirements manual required by paragraph (a) of this AD shall be done in accordance with Canadair Regional Jet Temporary Revision 2B-816, dated November 28, 2001. This incorporation by reference was approved by the Director of the Federal Register in accordance with 5 U.S.C. 552(a) and 1 CFR part 51. Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Note 3: The subject of this AD is addressed in Canadian airworthiness directive CF-2002-20, dated March 20, 2002.

Effective Date

(g) This amendment becomes effective on August 27, 2002.

Issued in Renton, Washington, on July 29, 2002.
Vi L. Lipski,
Manager, Transport Airplane Directorate, Aircraft Certification Service.

[FR Doc. 02-19877 Filed 8-9-02; 8:45 am]

BILLING CODE 4910-13-P